DEPARTMENT OF HOUSING AND URBAN DEVELOPMENT

[Docket No. FR-4557-N-12]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW, Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: DOT: Mr. Rugene Spruill, Principal, Space Management, SVC-140, Transportation Administrative Service Center, Department of Transportation, 400 7th Street, SW, Room 2310; (202) 366-4246; GSA: Mr. Brian K. Polly, Assistant Commissioner, General Services Administration, Office of Property Disposal, 18th and F Streets, NW, Washington, DC 20405; (202) 501-0052; NAVY: Mr. Charles C. Cocks, Department of the Navy, Director, Real Estate Policy Division, Naval Facilities Engineering Command, Washington Navy Yard, 1322 Patterson Ave., SE, Suite 1000, Washington, DC 20374-5065; (202) 685-9200; (These are not toll-free numbers).

Dated: March 16, 2000.
Fred Karnas, Jr.,
Deputy Assistant Secretary for Special Needs Assistance Programs.

Title V, Federal Surplus Property Program Federal Register Report for 3/24/00

Suitable/Available Properties

Buildings (by State)

Hawaii

Bldg. S87, Radio Trans. Fac.

Lualualei, Naval Station, Eastern Pacific

Wahiawa Co: Honolulu HI 96786-3050

Landholding Agency: Navy

Property Number: 77199240011

Status: Unutilized

Comment: 7566 sq. ft., 1-story, needs rehab, most recent use—storage, off-site use only

Bldg. 64, Radio Trans. Facility

Naval Computer & Telecommunications Area

Wahiawa Co: Honolulu HI 96786-3050

Landholding Agency: Navy

Property Number: 77199310004

Status: Unutilized

Comment: 3612 sq. ft., 1-story, access restrictions, needs rehab, most recent use—storage, off-site use only

Bldg. 442, Naval Station

Ford Island

Pearl Harbor Co: Honolulu HI 96860-

Landholding Agency: Navy

Property Number: 77199630088

Status: Excess

Comment: 192 sq. ft., most recent use—storage, off-site use only

Bldg. S180

Naval Station, Ford Island

Pearl Harbor Co: Honolulu HI 96860-

Landholding Agency: Navy

Property Number: 77199640039

Status: Unutilized

Comment: 3412 sq. ft., 2-story, most recent use—bomb shelter, off-site use only, relocation may not be feasible

Bldg. S181

Naval Station, Ford Island

Pearl Harbor Co: Honolulu HI 96860-

Landholding Agency: Navy

Property Number: 77199640040

Status: Unutilized

Comment: 4258 sq. ft., 1-story, most recent use—bomb shelter, off-site use only, relocation may not be feasible

Bldg. 219

Naval Station, Ford Island

Pearl Harbor Co: Honolulu HI 96860-

Landholding Agency: Navy

Property Number: 77199640041

Status: Unutilized

Comment: 620 sq. ft., most recent use—damage control, off-site use only, relocation may not be feasible

Bldg. 220

Naval Station, Ford Island

Pearl Harbor Co: Honolulu HI 96860-

Landholding Agency: Navy

Property Number: 77199640042

Status: Unutilized

Comment: 620 sq. ft., most recent use—damage control, off-site use only, relocation may not be feasible

Bldg. 160

Naval Station, Pearl Harbor

Pearl Harbor Co: Honolulu HI 96860-

Landholding Agency: Navy

Property Number: 77199840002

Status: Excess

Comment: 6070 sq. ft., needs rehab, presence of lead paint, most recent use—storage/office, off-site use only

Facility No. 92

Naval Computer & Telecom.

Area Master Station

Wahiawa Co: HI 96786-

Landholding Agency: Navy

Property Number: 77199930076

Status: Excess

Comment: 1008 sq. ft., needs rehab, most recent use—storage, off-site use only

Facility No. 99

Naval Computer & Telecom. Area Master Station

Wahiawa Co: HI 96786-

Landholding Agency: Navy

Property Number: 77199930077

Status: Excess

Comment: 544 sq. ft., concrete, needs rehab, presence of asbestos, most recent use—storage, off-site use only

Facility No. 127

Naval Computer & Telecom. Area Master Station

Wahiawa Co: HI 96786-

Landholding Agency: Navy

Property Number: 77199930078

Status: Excess

Comment: 198 sq. ft., needs rehab, presence of asbestos, most recent use—storage, off-site use only

Facility No. 227

Naval Computer & Telecom. Area Master Station

Wahiawa Co: HI 96786-

Landholding Agency: Navy

Property Number: 77199930079

Status: Excess

Comment: 2240 sq. ft., needs rehab, presence of asbestos, most recent use—weight room, off-site use only

Facility No. 285

Naval Computer & Telecom. Area Master Station

Wahiawa Co: HI 96786-

Landholding Agency: Navy

Property Number: 77199930080

Status: Excess

Comment: 418 sq. ft., needs rehab, most recent use—storage, off-site use only

Bldg. 5175

Naval Public Works

Iroquois Ave.

Ewa Beach Co: Honolulu HI 96706-

Landholding Agency: Navy

Property Number: 77199940033

Status: Excess

Comment: 1328 sq. ft., possible asbestos/lead paint, most recent use—residence, off-site use only

Bldg. 5179

Naval Public Works

Iroquois Ave.

Ewa Beach Co: Honolulu HI 96706-

Landholding Agency: Navy

Property Number: 77199940034

Status: Excess

Comment: 1328 sq. ft., possible asbestos/lead paint, most recent use—residence, off-site use only

Bldg. 5183

Naval Public Works

Iroquois Ave.

Ewa Beach Co: Honolulu HI 96706-

Landholding Agency: Navy

Property Number: 77199940035

Status: Excess

Comment: 1328 sq. ft., possible asbestos/lead paint, most recent use—residence, off-site use only

Bldg. 5187

Naval Public Works

Iroquois Ave.

Ewa Beach Co: Honolulu HI 96706-

Landholding Agency: Navy

Property Number: 77199940036

Status: Excess

Comment: 1328 sq. ft., possible asbestos/lead paint, most recent use—residence, off-site use only

Bldg. 5191

Naval Public Works

Iroquois Ave.

Ewa Beach Co: Honolulu HI 96705-

Landholding Agency: Navy

Property Number: 77199940037

Status: Excess

Comment: 1328 sq. ft., possible asbestos/lead paint, most recent use—residence, off-site use only

Bldg. 5193

Naval Public Works

Iroquois Ave.

Ewa Beach Co: Honolulu HI 96706-

Landholding Agency: Navy

Property Number: 77199940038

Status: Excess

Comment: 1328 sq. ft., possible asbestos/lead paint, most recent use—residence, off-site use only

Maine

Bldg. 4

Naval Air Station

Brunswick Co: ME 04011-

Landholding Agency: Navy

Property Number: 77199930005

Status: Excess

Comment: 16,644 sq. ft., presence of asbestos/lead paint, most recent use—headquarters building, off-site use only

Bldg. 8

Naval Air Station

Brunswick Co: ME 04011-

Landholding Agency: Navy

Property Number: 77199930006

Status: Excess

Comment: 7413 sq. ft., presence of asbestos/lead paint, most recent use—public works building, off-site use only

Bldg. 12

Naval Air Station

Brunswick Co: ME 04011-

Landholding Agency: Navy

Property Number: 77199930007

Status: Excess

Comment: 25,354 sq. ft., presence of asbestos/lead paint, most recent use—admin., off-site use only

Bldg. 41

Naval Air Station

Brunswick Co: ME 04011-

Landholding Agency: Navy

Property Number: 77199930008

Status: Excess

Comment: 10,526 sq. ft., presence of asbestos/lead paint, most recent use—security building, off-site use only

New Hampshire

Bldg. 128

Portsmouth Naval Shipyard

Portsmouth NH 03804-5000

Landholding Agency: Navy

Property Number: 77199830015

Status: Excess

Comment: 10,900 sq. ft., needs rehab, presence of asbestos, most recent use—storage, off-site use only

Bldg. 185

Portsmouth Naval Shipyard

Portsmouth NH 03804-5000

Landholding Agency: Navy

Property Number: 77199830016

Status: Excess

Comment: 2310 sq. ft., needs rehab, presence of asbestos, most recent use—office, off-site use only

Bldg. 314

Portsmouth Naval Shipyard

Portsmouth NH 03804-5000

Landholding Agency: Navy

Property Number: 77199830017

Status: Excess

Comment: cement block bldg., needs rehab, presence of asbestos, most recent use—storage, off-site use only

Bldg. 336

Portsmouth Naval Shipyard

Portsmouth NH 03804-5000

Landholding Agency: Navy

Property Number: 77199830018

Status: Excess

Comment: metal bldg w/cement block foundation, off-site use only

Bldg. 160

Portsmouth Naval Shipyard

Portsmouth Co: NH 03804-5000

Landholding Agency: Navy

Property Number: 77199910046

Status: Unutilized

Comment: 6080 sq. ft., possible asbestos, most recent use—storage, off-site use only

New Jersey

Old Bridge Housing

Route 9

Old Bridge Co: NJ 08857-

Landholding Agency: GSA

Property Number: 54199940010

Status: Excess

Comment: 12 three bedroom housing units, no long-term wastewater treatment system for property, presence of asbestos/lead paint, needs repair

GSA Number: 0-0-NJ-000

Bldg. D1-A

Naval Weapons Station

Colts Neck Co: NJ 07722-

Landholding Agency: Navy

Property Number: 77199940024

Status: Unutilized

Comment: 1134 sq. ft., presence of lead paint, most recent use—smokehouse/lunchroom, off-site use only

Bldg. HA-1A

Naval Weapons Station

Colts Neck Co: NJ 07722-

Landholding Agency: Navy

Property Number: 77199940025

Status: Unutilized

Comment: 120 sq. ft., most recent use—storage, off-site use only

Suitable/Unavailable Properties

Buildings (by State)

Puerto Rico

Bldgs. 501 & 502

U.S. Naval Radio Transmitter

Facility

State Road No. 2

Juana Diaz PR 00795-

Landholding Agency: Navy

Property Number: 77199530007

Status: Underutilized

Comment: Reinforced concrete structures, limited access, needs rehab, most recent use—transmitter and power house

Virginia

Naval Medical Clinic

6500 Hampton Blvd.

Norfolk Co: Norfolk VA 23508-

Landholding Agency: Navy

Property Number: 77199010109

Status: Unutilized

Comment: 3665 sq. ft., 1 story, possible asbestos, most recent use—laundry.

Land (by State)

Virginia

Naval Base

Norfolk Co: Norfolk VA 23508-

Location: Northeast corner of base, near Willoughby housing area.

Landholding Agency: Navy

Property Number: 77199010156

Status: Unutilized

Comment: 60 acres; most recent use—sandpit; secured area with alternate access.

Land—CD area

Naval Base Norfolk

Norfolk VA 23511-2797

Landholding Agency: Navy

Property Number: 77199830022

Status: Unutilized

Comment: 2 acres, open space

Suitable/To Be Excessed

Buildings (by State)

Puerto Rico

Bldg. 561

Former Ramey AFB

Aquadilla PR 00604-

Landholding Agency: Navy

Property Number: 77199630001

Status: Unutilized

Comment: 102666 sq. ft. bldg. on 5.006 acres, most recent use—manufacturing, office and freight distribution center, presence of asbestos

Unsuitable Properties

Buildings (by State)

Alaska

“Gazebo”

Coast Guard

Cordova Co: AK 99574-

Landholding Agency: DOT

Property Number: 87200010002

Status: Unutilized

Reason: Extensive deterioration

California

Bldg. 210

Naval Station, San Diego

San Diego CA 92136-

Landholding Agency: Navy

Property Number: 77199830001

Status: Excess

Reason: Extensive deterioration

Bldg. 444

Naval Station

San Diego CA 92136-5065

Landholding Agency: Navy

Property Number: 77199830122

Status: Excess

Reason: Extensive deterioration

Bldg. 209

Naval Station, San Diego

San Diego CA 92136-5294

Landholding Agency: Navy

Property Number: 77199840001

Status: Excess

Reason: Extensive deterioration

Bldgs. 20106, 20195

Naval Air Weapons Station

China Lake Co: CA 93555-

Landholding Agency: Navy

Property Number: 77199930001

Status: Excess

Reasons: Secured Area, Extensive deterioration

Bldgs. 40, 62

Naval Air Station, North Island

Imperial Beach Co: CA 91932-

Landholding Agency: Navy

Property Number: 77199930024

Status: Excess

Reason: Extensive deterioration

Bldg. 5UT4

Marine Corps Recruit Depot

San Diego Co: CA 92140-

Landholding Agency: Navy

Property Number: 77199930081

Status: Unutilized

Reason: Extensive deterioration

Bldg. 5US4

Marine Corps Recruit Depot

San Diego Co: CA 92140-

Landholding Agency: Navy

Property Number: 77199930082

Status: Unutilized

Reason: Extensive deterioration

Bldg. 127

Marine Corps Recruit Depot

San Diego Co: CA 92140-

Landholding Agency: Navy

Property Number: 77199930083

Status: Unutilized

Reason: Extensive deterioration

Bldg. 5A6

Marine Corps Recruit Depot

San Diego Co: CA 92140-

Landholding Agency: Navy

Property Number: 77199930084

Status: Unutilized

Reason: Extensive deterioration

Bldg. 5A7

Marine Corps Recruit Depot

San Diego Co: CA 92140-

Landholding Agency: Navy

Property Number: 77199930085

Status: Unutilized

Reason: Extensive deterioration

Bldg. 5A8

Marine Corps Recruit Depot

San Diego Co: CA 92140-

Landholding Agency: Navy

Property Number: 77199930086

Status: Unutilized

Reason: Extensive deterioration

Bldg. 5A9

Marine Corps Recruit Depot

San Diego Co: CA 92140-

Landholding Agency: Navy

Property Number: 77199930087

Status: Unutilized

Reason: Extensive deterioration

Bldg. 5B6

Marine Corps Recruit Depot

San Diego Co: CA 92140-

Landholding Agency: Navy

Property Number: 77199930088

Status: Unutilized

Reason: Extensive deterioration

Bldg. 5B7

Marine Corps Recruit Depot

San Diego Co: CA 92140-

Landholding Agency: Navy

Property Number: 77199930089

Status: Unutilized

Reason: Extensive deterioration

Bldg. 5B8

Marine Corps Recruit Depot

San Diego Co: CA 92140-

Landholding Agency: Navy

Property Number: 77199930090

Status: Unutilized

Reason: Extensive deterioration

Bldg. 5B9

Marine Corps Recruit Depot

San Diego Co: CA 92140-

Landholding Agency: Navy

Property Number: 77199930091

Status: Unutilized

Reason: Extensive deterioration

Bldg. 5C6

Marine Corps Recruit Depot

San Diego Co: CA 92140-

Landholding Agency: Navy

Property Number: 77199930092

Status: Unutilized

Reason: Extensive deterioration

Bldg. 5C7

Marine Corps Recruit Depot

San Diego Co: CA 92140-

Landholding Agency: Navy

Property Number: 77199930093

Status: Unutilized

Reason: Extensive deterioration

Bldg. 5C8

Marine Corps Recruit Depot

San Diego Co: CA 92140-

Landholding Agency: Navy

Property Number: 77199930094

Status: Unutilized

Reason: Extensive deterioration

Bldg. 5C9

Marine Corps Recruit Depot

San Diego Co: CA 92140-

Landholding Agency: Navy

Property Number: 77199930095

Status: Unutilized

Reason: Extensive deterioration

Bldg. 5D1

Marine Corps Recruit Depot

San Diego Co: CA 92140-

Landholding Agency: Navy

Property Number: 77199930096

Status: Unutilized

Reason: Extensive deterioration

Bldg. 5D2

Marine Corps Recruit Depot

San Diego Co: CA 92140-

Landholding Agency: Navy

Property Number: 77199930097

Status: Unutilized

Reason: Extensive deterioration

Bldg. 5D3

Marine Corps Recruit Depot

San Diego Co: CA 92140-

Landholding Agency: Navy

Property Number: 77199930098

Status: Unutilized

Reason: Extensive deterioration

Bldg. 5D4

Marine Corps Recruit Depot

San Diego Co: CA 92140-

Landholding Agency: Navy

Property Number: 77199930099

Status: Unutilized

Reason: Extensive deterioration

Bldg. 5D5

Marine Corps Recruit Depot

San Diego Co: CA 92140-

Landholding Agency: Navy

Property Number: 77199930100

Status: Unutilized

Reason: Extensive deterioration

Bldg. 206

Naval Weapons Station Seal Beach

Seal Beach Co: CA 90740-5000

Landholding Agency: Navy

Property Number: 77199930105

Status: Unutilized

Reason: Extensive deterioration

Bldg. 432

Naval Weapons Station Seal Beach

Seal Beach Co: CA 90740-5000

Landholding Agency: Navy

Property Number: 77199930106

Status: Unutilized

Reason: Extensive deterioration

Bldg. 433

Naval Weapons Station Seal Beach

Seal Beach Co: CA 90740-5000

Landholding Agency: Navy

Property Number: 77199930107

Status: Unutilized

Reason: Extensive deterioration

Bldg. 435

Naval Weapons Station Seal Beach

Seal Beach Co: CA 90740-5000

Landholding Agency: Navy

Property Number: 77199930108

Status: Unutilized

Reason: Extensive deterioration

Bldg. 456

Naval Weapons Station Seal Beach

Seal Beach Co: CA 90740-5000

Landholding Agency: Navy

Property Number: 77199930109

Status: Unutilized

Reason: Extensive deterioration

Bldg. 921

Naval Weapons Station Seal Beach

Seal Beach Co: CA 90740-5000

Landholding Agency: Navy

Property Number: 77199930110

Status: Unutilized

Reason: Extensive deterioration

Bldg. 201

Naval Weapons Station

Fallbrook Co: CA 92028-3187

Landholding Agency: Navy

Property Number: 77199940002

Status: Unutilized

Reason: Extensive deterioration

Bldg. 205

Naval Weapons Station

Fallbrook Co: CA 92028-3187

Landholding Agency: Navy

Property Number: 77199940003

Status: Unutilized

Reason: Extensive deterioration

Bldg. 227

Naval Weapons Station

Fallbrook Co: CA 92028-3187

Landholding Agency: Navy

Property Number: 77199940004

Status: Unutilized

Reason: Extensive deterioration

Bldg. 230

Naval Weapons Station

Fallbrook Co: CA 92028-3187

Landholding Agency: Navy

Property Number: 77199940005

Status: Unutilized

Reason: Extensive deterioration

Bldg. 232

Naval Weapons Station

Fallbrook Co: CA 92028-3187

Landholding Agency: Navy

Property Number: 77199940006

Status: Unutilized

Reason: Extensive deterioration

Bldg. 337

Naval Weapons Station

Fallbrook Co: CA 92028-3187

Landholding Agency: Navy

Property Number: 77199940007

Status: Unutilized

Reason: Extensive deterioration

Bldg. 338

Naval Weapons Station

Fallbrook Co: CA 92028-3187

Landholding Agency: Navy

Property Number: 77199940008

Status: Unutilized

Reason: Extensive deterioration

Bldg. 339

Naval Weapons Station

Fallbrook Co: CA 92028-3187

Landholding Agency: Navy

Property Number: 77199940009

Status: Unutilized

Reason: Extensive deterioration

Bldg. 349

Naval Weapons Station

Fallbrook Co: CA 92028-3187

Landholding Agency: Navy

Property Number: 77199940010

Status: Unutilized

Reason: Extensive deterioration

Bldg. 362

Naval Weapons Station

Fallbrook Co: CA 92028-3187

Landholding Agency: Navy

Property Number: 77199940011

Status: Unutilized

Reason: Extensive deterioration

Bldg. 363

Naval Weapons Station

Fallbrook Co: CA 92028-3187

Landholding Agency: Navy

Property Number: 77199940012

Status: Unutilized

Reason: Extensive deterioration

Bldg. 410

Naval Weapons Station

Fallbrook Co: CA 92028-3187

Landholding Agency: Navy

Property Number: 77199940013

Status: Unutilized

Reason: Extensive deterioration

Bldg. 438

Naval Weapons Station

Fallbrook Co: CA 92028-3187

Landholding Agency: Navy

Property Number: 77199940014

Status: Unutilized

Reason: Extensive deterioration

Bldg. Q100

Naval Amphibious Base

Coronado Co: CA 92118-

Landholding Agency: Navy

Property Number: 77199940067

Status: Excess

Reason: Extensive deterioration

Bldg. Q102

Naval Amphibious Base

Coronado Co: CA 92118-

Landholding Agency: Navy

Property Number: 77199940068

Status: Excess

Reason: Extensive deterioration

Bldg. 106

Naval Amphibious Base

Coronado Co: CA 92118-

Landholding Agency: Navy

Property Number: 77199940069

Status: Excess

Reason: Extensive deterioration

Bldg. 111

Naval Amphibious Base

Coronado Co: CA 92118-

Landholding Agency: Navy

Property Number: 77199940070

Status: Excess

Reason: Extensive deterioration

Bldg. 112

Naval Amphibious Base

Coronado Co: CA 92118-

Landholding Agency: Navy

Property Number: 77199940071

Status: Excess

Reason: Extensive deterioration

Bldg. 613

NAS, North Island

Coronado Co: CA 92118-

Landholding Agency: Navy

Property Number: 77199940072

Status: Excess

Reason: Extensive deterioration

Bldg. 55

Naval Amphibious Base

Coronado Co: CA 92118-

Landholding Agency: Navy

Property Number: 77199940073

Status: Excess

Reason: Extensive deterioration

OT68 Space & Navy Warfare Systems Center

San Diego Co: CA 92152-5001

Landholding Agency: Navy

Property Number: 77200010076

Status: Unutilized

Reason: Floodway

Bldg. 1234

Marine Corps Base

Camp Pendleton Co: CA 92055-

Landholding Agency: Navy

Property Number: 77200010077

Status: Excess

Reason: Extensive deterioration

Bldg. 1439

Marine Corps Base

Camp Pendleton Co: CA 92055-

Landholding Agency: Navy

Property Number: 77200010078

Status: Excess

Reason: Extensive deterioration

Bldg. 1443

Marine Corps Base

Camp Pendleton Co: CA 92055-

Landholding Agency: Navy

Property Number: 77200010079

Status: Excess

Reason: Extensive deterioration

Bldg. 2231

Marine Corps Base

Camp Pendleton Co: CA 92055-

Landholding Agency: Navy

Property Number: 77200010080

Status: Excess

Reason: Extensive deterioration

Bldg. 2232

Marine Corps Base

Camp Pendleton Co: CA 92055-

Landholding Agency: Navy

Property Number: 77200010081

Status: Excess

Reason: Extensive deterioration

Bldg. 2582

Marine Corps Base

Camp Pendleton Co: CA 92055-

Landholding Agency: Navy

Property Number: 77200010082

Status: Excess

Reason: Extensive deterioration

Bldg. 2583

Marine Corps Base

Camp Pendleton Co: CA 92055-

Landholding Agency: Navy

Property Number: 77200010083

Status: Excess

Reason: Extensive deterioration

Bldg. 21544

Marine Corps Base

Camp Pendleton Co: CA 92055-

Landholding Agency: Navy

Property Number: 77200010084

Status: Excess

Reason: Extensive deterioration

Bldg. 21549

Marine Corps Base

Camp Pendleton Co: CA 92055-

Landholding Agency: Navy

Property Number: 77200010085

Status: Excess

Reason: Extensive deterioration

Bldg. 25131

Marine Corps Base

Camp Pendleton Co: CA 92055-

Landholding Agency: Navy

Property Number: 77200010086

Status: Excess

Reason: Extensive deterioration

Bldg. 32927

Marine Corps Base

Camp Pendleton Co: CA 92055-

Landholding Agency: Navy

Property Number: 77200010087

Status: Excess

Reason: Extensive deterioration

Bldg. 130167

Marine Corps Base

Camp Pendleton Co: CA 92055-

Landholding Agency: Navy

Property Number: 77200010088

Status: Excess

Reason: Extensive deterioration

Bldg. 130175

Marine Corps Base

Camp Pendleton Co: CA 92055-

Landholding Agency: Navy

Property Number: 77200010089

Status: Excess

Reason: Extensive deterioration

Bldg. 20176

Marine Corps Base

Camp Pendleton Co: CA 92055-

Landholding Agency: Navy

Property Number: 77200010090

Status: Excess

Reason: Extensive deterioration

Bldg. 201487

Marine Corps Base

Camp Pendleton Co: CA 92055-

Landholding Agency: Navy

Property Number: 77200010091

Status: Excess

Reason: Extensive deterioration

Bldg. 1684

Marine Corps Base

Camp Pendleton Co: CA 92055-

Landholding Agency: Navy

Property Number: 77200010092

Status: Excess

Reason: Extensive deterioration

Bldg. 16146

Marine Corps Base

Camp Pendleton Co: CA 92055-

Landholding Agency: Navy

Property Number: 77200010093

Status: Excess

Reason: Extensive deterioration

Bldg. 43332

Marine Corps Base

Camp Pendleton Co: CA 92055-

Landholding Agency: Navy

Property Number: 77200010094

Status: Excess

Reason: Extensive deterioration

Bldg. 43333

Marine Corps Base

Camp Pendleton Co: CA 92055-

Landholding Agency: Navy

Property Number: 77200010095

Status: Excess

Reason: Extensive deterioration

Bldg. 43334

Marine Corps Base

Camp Pendleton Co: CA 92055-

Landholding Agency: Navy

Property Number: 77200010096

Status: Excess

Reason: Extensive deterioration

Bldg. 43335

Marine Corps Base

Camp Pendleton Co: CA 92055-

Landholding Agency: Navy

Property Number: 77200010097

Status: Excess

Reason: Extensive deterioration

Bldg. 43336

Marine Corps Base

Camp Pendleton Co: CA 92055-

Landholding Agency: Navy

Property Number: 77200010098

Status: Excess

Reason: Extensive deterioration

Bldg. 43337

Marine Corps Base

Camp Pendleton Co: CA 92055-

Landholding Agency: Navy

Property Number: 77200010099

Status: Excess

Reason: Extensive deterioration

Bldg. 52651

Marine Corps Base

Camp Pendleton Co: CA 92055-

Landholding Agency: Navy

Property Number: 77200010100

Status: Excess

Reason: Extensive deterioration

Connecticut

DG1-DG8, DG10-DG-27

Dolphin Gardens

Naval Submarine Base New London

Groton Co: New London Ct 06349-

Landholding Agency: Navy

Status: Unutilized

Reason: Extensive deterioration

Florida

Bldg. 648

Naval Air Station

Pensacola Co: Escambia FL 32508-

Landholding Agency: Navy

Property Number: 77199920087

Status: Unutilized

Reason: Secured Area

Bldg. 1882

Naval Air Station

Pensacola Co: Escambia FL 32508-

Landholding Agency: Navy

Property Number: 77199920088

Status: Unutilized

Reasons: Secured Area, Extensive deterioration

Bldg. 3228

Naval Air Station

Pensacola Co: Escambia FL 32508-

Landholding Agency: Navy

Property Number: 77199920089

Status: Unutilized

Reason: Secured Area

Bldg. 3604

Naval Air Station

Pensacola Co: Escambia FL 32508-

Landholding Agency: Navy

Property Number: 77199920090

Status: Unutilized

Reason: Secured Area

Bldg. 3605

Naval Air Station

Pensacola Co: Escambia FL 32508-

Landholding Agency: Navy

Property Number: 77199920091

Status: Unutilized

Reason: Secured Area

Bldg. 3626

Naval Air Station

Pensacola Co: Escambia FL 32508-

Landholding Agency: Navy

Property Number: 77199920092

Status: Unutilized

Reason: Secured Area

Bldg. 3674

Naval Air Station

Pensacola Co: Escambia FL 32508-

Landholding Agency: Navy

Property Number: 77199920093

Status: Unutilized

Reason: Secured Area

Bldg. A-146

Boca Chica Annex

Naval Air Station

Key West Co: Monroe FL 33040-

Landholding Agency: Navy

Property Number: 77199930027

Status: Unutilized

Reason: Extensive deterioration

Bldg. A-232

Boca Chica Annex

Naval Air Station

Key West Co: Monroe FL 33040-

Landholding Agency: Navy

Property Number: 77199930028

Status: Unutilized

Reason: Extensive deterioration

Bldg. A-4020

Boca Chica Annex

Naval Air Station

Key West Co: Monroe FL 33040-

Landholding Agency: Navy

Property Number: 77199930029

Status: Unutilized

Reason: Extensive deterioration

Bldg. 3451

Naval Air Station

Pensacola Co: Escambia FL 32508-

Landholding Agency: Navy

Property Number: 77199940066

Status: Unutilized

Reason: Secured Area

Georgia

Bldg. 3012

Naval Submarine Base

Kings Bay Co: Camden GA 31547-

Landholding Agency: Navy

Property Number: 77199910001

Status: Unutilized

Reason: Extensive deterioration

Facility 5001

Naval Submarine Base

Kings Bay Co: Camden GA 31547-

Landholding Agency: Navy

Property Number: 77199940016

Status: Unutilized

Reason: Secured Area

Facility 5002

Naval Submarine Base

Kings Bay Co: Camden GA 31547-

Landholding Agency: Navy

Property Number: 77199940017

Status: Unutilized

Reason: Secured Area

Facility 5003

Naval Submarine Base

Kings Bay Co: Camden GA 31547-

Landholding Agency: Navy

Property Number: 77199940018

Status: Unutilized

Reason: Secured Area

Facility 5935

Naval Submarine Base

Kings Bay Co: Camden GA 31547-

Landholding Agency: Navy

Property Number: 77199940019

Status: Unutilized

Reason: Secured Area

Guam

Bldg. 296

Communications Annex

Dededo Co: GU 96537-

Landholding Agency: Navy

Property Number: 77199920132

Status: Unutilized

Reason: Secured Area

Structures 312, 1792

COMNAVMARIANAS

Waterfront Annex Co: GU 96540-

Landholding Agency: Navy

Property Number: 77199930002

Status: Excess

Reason: Secured Area

Structures 2020, 2021

COMNAVMARIANAS

Waterfront Annex Co: GU 96540-

Landholding Agency: Navy

Property Number: 77199930003

Status: Excess

Reason: Secured Area

Bldg. 3171

COMNAVMARIANAS

Waterfront Annex Co: GU 96540-

Landholding Agency: Navy

Property Number: 77199930004

Status: Excess

Reasons: Secured Area, Extensive deterioration

Bldg. 76

U.S. Naval Forces

COMNAVMARIANAS

Waterfront Annex Co: GU 96540-0051

Landholding Agency: Navy

Property Number: 77199930047

Status: Unutilized

Reasons: Within 2000 ft. of flammable or explosive material, Secured Area, Extensive deterioration

Bldg. 264

U.S. Naval Forces

COMNAVMARIANAS

Waterfront Annex Co: GU 96540-0051

Landholding Agency: Navy

Property Number: 77199930048

Status: Unutilized

Reasons: Within 2000 ft. of flammable or explosive material, Secured Area, Extensive deterioration

Bldg. 2012

U.S. Naval Forces

COMNAVMARIANAS

Waterfront Annex Co: GU 96540-0051

Landholding Agency: Navy

Property Number: 77199930049

Status: Unutilized

Reasons: Secured Area, Extensive deterioration

Bldg. 3114

U.S. Naval Forces

COMNAVMARIANAS

Waterfront Annex Co: GU 96540-0051

Landholding Agency: Navy

Property Number: 77199930050

Status: Unutilized

Reasons: Within 2000 ft. of flammable or explosive material, Secured Area, Extensive deterioration

Bldg. 3151

U.S. Naval Forces

COMNAVMARIANAS

Waterfront Annex Co: GU 96540-0051

Landholding Agency: Navy

Property Number: 77199930051

Status: Unutilized

Reasons: Within 2000 ft. of flammable or explosive material, Secured Area, Extensive deterioration

Bldg. 3152

U.S. Naval Forces

COMNAVMARIANAS

Waterfront Annex Co: GU 96540-0051

Landholding Agency: Navy

Property Number: 77199930052

Status: Unutilized

Reasons: Within 2000 ft. of flammable or explosive material, Secured Area, Extensive deterioration

Bldg. 3153

U.S. Naval Forces

COMNAVMARIANAS

Waterfront Annex Co: GU 96540-0051

Landholding Agency: Navy

Property Number: 77199930053

Status: Unutilized

Reasons: Within 2000 ft. of flammable or explosive material, Secured Area, Extensive deterioration

Bldg. 3154

U.S. Naval Forces

COMNAVMARIANAS

Waterfront Annex Co: GU 96540-0051

Landholding Agency: Navy

Property Number: 77199930054

Status: Unutilized

Reasons: Within 2000 ft. of flammable or explosive material, Secured Area, Extensive deterioration

Bldg. 3155

U.S. Naval Forces

COMNAVMARIANAS

Waterfront Annex Co: GU 96540-0051

Landholding Agency: Navy

Property Number: 77199930055

Status: Unutilized

Reasons: Within 2000 ft. of flammable or explosive material, Secured Area, Extensive deterioration

Bldg. 3268A

U.S. Naval Forces

COMNAVMARIANAS

Waterfront Annex Co: GU 96540-0051

Landholding Agency: Navy

Property Number: 77199930056

Status: Unutilized

Reasons: Within 2000 ft. of flammable or explosive material, Secured Area, Extensive deterioration

Bldg. 4400

U.S. Naval Forces

COMNAVMARIANAS

Waterfront Annex Co: GU 96540-0051

Landholding Agency: Navy

Property Number: 77199930057

Status: Unutilized

Reasons: Secured Area, Extensive deterioration

Bldg. 4402

U.S. Naval Forces

COMNAVMARIANAS

Waterfront Annex Co: GU 96540-0051

Landholding Agency: Navy

Property Number: 77199930058

Status: Unutilized

Reasons: Secured Area, Extensive deterioration

Bldg. 4414

U.S. Naval Forces

COMNAVMARIANAS

Waterfront Annex Co: GU 96540-0051

Landholding Agency: Navy

Property Number: 77199930059

Status: Unutilized

Reasons: Secured Area, Extensive deterioration

Bldg. 4425

U.S. Naval Forces

COMNAVMARIANAS

Waterfront Annex Co: GU 96540-0051

Landholding Agency: Navy

Property Number: 77199930060

Status: Unutilized

Reasons: Secured Area, Extensive deterioration

Bldgs. 4426-4428

U.S. Naval Forces

COMNAVMARIANAS

Waterfront Annex Co: GU 96540-0051

Landholding Agency: Navy

Property Number: 77199930061

Status: Unutilized

Reasons: Secured Area, Extensive deterioration

Bldg. 5408

U.S. Naval Forces

COMNAVMARIANAS

Waterfront Annex Co: GU 96540-0051

Landholding Agency: Navy

Property Number: 77199930062

Status: Unutilized

Reasons: Within 2000 ft. of flammable or explosive material, Secured Area, Extensive deterioration

Bldg. 5540

U.S. Naval Forces

COMNAVMARIANAS

Waterfront Annex Co: GU 96540-0051

Landholding Agency: Navy

Property Number: 77199930063

Status: Unutilized

Reasons: Within 2000 ft. of flammable or explosive material, Secured Area, Extensive deterioration

Bldg. 5541

U.S. Naval Forces

COMNAVMARIANAS

Waterfront Annex Co: GU 96540-0051

Landholding Agency: Navy

Property Number: 77199930064

Status: Unutilized

Reasons: Within 2000 ft. of flammable or explosive material, Secured Area, Extensive deterioration

Small Craft Bldg.

U.S. Naval Forces

COMNAVMARIANAS

Waterfront Annex Co: GU 96540-0051

Landholding Agency: Navy

Property Number: 77199930065

Status: Unutilized

Reasons: Within 2000 ft. of flammable or explosive material, Secured Area, Extensive deterioration

Hawaii

Bldg. 126, Naval Magazine

Waikele Branch

Lualualei Co: Oahu HI 96792-

Landholding Agency: Navy

Property Number: 77199230012

Status: Unutilized

Reasons: Within 2000 ft. of flammable or explosive material, Extensive Deterioration, Secured Area

Bldg. Q75, Naval Magazine

Lualualei Branch

Lualualei Co: Oahu HI 96792-

Landholding Agency: Navy

Property Number: 77199230013

Status: Unutilized

Reasons: Extensive Deterioration, Secured Area

Bldg. 7, Naval Magazine

Lualualei Branch

Lualualei Co: Oahu HI 96792-

Landholding Agency: Navy

Property Number: 77199230014

Status: Unutilized

Reasons: Extensive Deterioration, Secured Area

Bldg. 6, Pear Harbor

Richardson Recreational Area

Honolulu Co: Honolulu HI 96860-

Landholding Agency: Navy

Property Number: 77199410003

Status: Unutilized

Reason: Extensive deterioration

Bldg. 10, Pear Harbor

Richardson Recreational Area

Honolulu Co: Honolulu HI 96860-

Landholding Agency: Navy

Property Number: 77199410004

Status: Unutilized

Reason: Extensive deterioration

Bldg. 9

Navy Public Works Center

Kolekole Road

Lualualei Co: Honolulu HI 96782-

Landholding Agency: Navy

Property Number: 77199530009

Status: Excess

Reasons: Within 2000 ft. of flammable or explosive material, Secured Area

Bldg. X5

Nanumea Road

Pearl Harbor Co: Honolulu HI 96782-

Landholding Agency: Navy

Property Number: 77199530010

Status: Excess

Reason: Secured Area

Bldg. SX30

Nanumea Road

Pearl Harbor Co: Honolulu HI 96860-

Landholding Agency: Navy

Property Number: 77199530011

Status: Excess

Reason: Secured Area

Bldg. 98

Pearl Harbor Naval Shipyard

Pearl Harbor Co: Honolulu HI 96860-

Landholding Agency: Navy

Property Number: 77199620032

Status: Excess

Reason: Extensive deterioration

Bldg. Q13

Naval Station, Ford Island

Pearl Harbor Co: Honolulu HI 96860-

Landholding Agency: Navy

Property Number: 77199640035

Status: Unutilized

Reason: Extensive deterioration

Bldg. Q14

Naval Station, Ford Island

Pearl Harbor Co: Honolulu HI 96860-

Landholding Agency: Navy

Property Number: 77199640036

Status: Unutilized

Reason: Extensive deterioration

Bldg. 40

Naval Magazine Lualualei

Co: Oahu HI 96792-4301

Landholding Agency: Navy

Property Number: 77199830028

Status: Unutilized

Reason: Extensive deterioration

Bldg. 50

Naval Magazine Lualualei

Co: Oahu HI 96792-4301

Landholding Agency: Navy

Property Number: 77199830029

Status: Unutilized

Reason: Extensive deterioration

Bldg. Q76

Naval Magazine Lualualei

Co: Oahu HI 96792-4301

Landholding Agency: Navy

Property Number: 77199830030

Status: Unutilized

Reason: Extensive deterioration

Bldg. Q334

Naval Magazine Lualualei

Co: Oahu HI 96792-4301

Landholding Agency: Navy

Property Number: 77199830031

Status: Unutilized

Reason: Extensive deterioration

Bldg. S380

Naval Magazine Lualualei

Co: Oahu HI 96792-4301

Landholding Agency: Navy

Property Number: 77199830032

Status: Unutilized

Reason: Extensive deterioration

Bldg. S381

Naval Magazine Lualualei

Co: Oahu HI 96792-4301

Landholding Agency: Navy

Property Number: 77199830033

Status: Unutilized

Reason: Extensive deterioration

Bldg. Q410

Naval Magazine Lualualei

Co: Oahu HI 96792-4301

Landholding Agency: Navy

Property Number: 77199830034

Status: Unutilized

Reason: Extensive deterioration

Bldg. Q422

Naval Magazine Lualualei

Co: Oahu HI 96792-4301

Landholding Agency: Navy

Property Number: 77199830035

Status: Unutilized

Reason: Extensive deterioration

Bldg. 429

Naval Magazine Lualualei

Co: Oahu HI 96792-4301

Landholding Agency: Navy

Property Number: 77199830036

Status: Unutilized

Reason: Extensive deterioration

Bldg. 431

Naval Magazine Lualualei

Co: Oahu HI 96792-4301

Landholding Agency: Navy

Property Number: 77199830037

Status: Unutilized

Reason: Extensive deterioration

Bldg. 447

Naval Magazine Lualualei

Co: Oahu HI 96792-4301

Landholding Agency: Navy

Property Number: 77199830038

Status: Unutilized

Reason: Extensive deterioration

Facility S-721

Naval Station

Pearl Harbor Co: Honolulu HI 96860-

Landholding Agency: Navy

Property Number: 77199840042

Status: Excess

Reason: Secured Area

Facility S-897

Naval Station

Pearl Harbor Co: Honolulu HI 96860-

Landholding Agency: Navy

Property Number: 77199840043

Status: Excess

Reason: Secured Area

Facility S-937

Naval Station

Pearl Harbor Co: Honolulu HI 96860-

Landholding Agency: Navy

Property Number: 77199840044

Status: Excess

Reason: Secured Area

Facility 19

Naval Station

Pearl Harbor Co: Honolulu HI 96860-

Landholding Agency: Navy

Property Number: 77199840045

Status: Excess

Reason: Secured Area

Facility 63

Naval Computer & Telecomm. Station

Wahiawa Co: HI 96786-

Landholding Agency: Navy

Property Number: 77199920013

Status: Excess

Reason: Extensive deterioration

Facility SX30

Naval Public Works Center

Pearl Harbor Co: Honolulu HI 96860-

Landholding Agency: Navy

Property Number: 77199920027

Status: Excess

Reason: Secured Area, Extensive deterioration

Bldg. 102

Molokai Training Support Facility

Molokai Co: HI 96820-

Landholding Agency: Navy

Property Number: 77199930066

Status: Unutilized

Reason: Extensive deterioration

Bldg. 103

Molokai Training Support Facility

Molokai Co: HI 96820-

Landholding Agency: Navy

Property Number: 77199930067

Status: Unutilized

Reason: Extensive deterioration

Bldg. 104

Molokai Training Support Facility

Molokai Co: HI 96820-

Landholding Agency: Navy

Property Number 77199930068

Status: Unutilized

Reason: Extensive deterioration

Bldg. 107

Molokai Training Support Facility

Molokai Co: HI 96820-

Landholding Agency: Navy

Property Number 77199930069

Status: Unutilized

Reason: Extensive deterioration

Bldg. 108

Molokai Training Support Facility

Molokai Co: HI 96820-

Landholding Agency: Navy

Property Number 77199930070

Status: Unutilized

Reason: Extensive deterioration

Bldg. 330

NCTAMS PAC

Wahiawa Co: HI 96786-

Landholding Agency: Navy

Property Number: 77199940061

Status: Excess

Reason: Extensive deterioration

Bldg. 348

NCTAMS PAC

Wahiawa Co: HI 96786-

Landholding Agency: Navy

Property Number: 77199940062

Status: Excess

Reason: Extensive deterioration

Bldg. 349

NCTAMS PAC

Wahiawa Co: HI 96786-

Landholding Agency: Navy

Property Number: 77199940063

Status: Excess

Reason: Extensive deterioration

Illinois

Bldg. 415

Naval Training Center

201 N. Decatur Ave.

Great Lakes IL

Landholding Agency: Navy

Property Number: 77199840023

Status: Unutilized

Reason: Secured Area

Bldg. 1015

Naval Training Center

201 N. Decatur Ave.

Great Lakes IL

Landholding Agency: Navy

Property Number: 77199840024

Status: Unutilized

Reason: Secured Area

Bldg. 1016

Naval Training Center

201 N. Decatur Ave.

Great Lakes IL

Landholding Agency: Navy

Property Number: 77199840025

Status: Unutilized

Reason: Secured Area

Bldg. 910

Naval Training Center

Great Lakes Co: IL 60088-5000

Landholding Agency: Navy

Property Number: 77199920055

Status: Unutilized

Reason: Secured Area

Bldg. 800

Naval Training Center

Great Lakes Co: IL 60088-5000

Landholding Agency: Navy

Property Number: 77199920056

Status: Unutilized

Reason: Secured Area

Bldg. 1000

Naval Training Center

Great Lakes Co: IL 60088-5000

Landholding Agency: Navy

Property Number: 77199920057

Status: Unutilized

Reason: Secured Area

Bldg. 1200

Naval Training Center

Great Lakes Co: IL 60088-5000

Landholding Agency: Navy

Property Number: 77199920058

Status: Unutilized

Reason: Secured Area

Bldg. 1400

Naval Training Center

Great Lakes Co: IL 60088-5000

Landholding Agency: Navy

Property Number: 77199920059

Status: Unutilized

Reason: Secured Area

Bldg. 1600

Naval Training Center

Great Lakes Co: IL 60088-5000

Landholding Agency: Navy

Property Number: 77199920060

Status: Unutilized

Reason: Secured Area

Bldg. 2600

Naval Training Center

Great Lakes Co: IL 60088-5000

Landholding Agency: Navy

Property Number: 77199920061

Status: Unutilized

Reason: Secured Area

Maine

Aircraft Hanger #2

Naval Air Station

Brunswick Co: Cumberland ME 04011-

Landholding Agency: Navy

Property Number: 77199810015

Status: Excess

Reason: Extensive deterioration

Bldg. 13

Naval Air Station

Brunswick Co: Cumberland ME 04011-

Landholding Agency: Navy

Property Number: 77199840005

Status: Excess

Reason: Extensive deterioration

Bldg. 15

Naval Air Base

Brunswick Co: Cumberland ME 04011-

Landholding Agency: Navy

Property Number: 77199840006

Status: Excess

Reason: Extensive deterioration

Bldg. 16

Naval Air Base

Brunswick Co: Cumberland ME 04011-

Landholding Agency: Navy

Property Number: 77199840007

Status: Excess

Reason: Extensive deterioration

Maryland

15 Bldgs.

Naval Air Warfare Center

Patuxent River Co: St. Mary's MD 20670-5304

Landholding Agency: Navy

Property Number: 77199730062

Status: Unutilized

Reason: Extensive deterioration

Mississippi

Bldg. 78

Naval Construction Battalion Center

Gulfport Co: Harrison MS 39501-5001

Landholding Agency: Navy

Property Number: 77199830047

Status: Unutilized

Reasons: Secured Area, Extensive deterioration

Bldg. 113

Naval Construction Battalion Center

Gulfport Co: Harrison MS 39501-5001

Landholding Agency: Navy

Property Number: 77199830048

Status: Unutilized

Reasons: Secured Area, Extensive deterioration

Bldg. 147

Naval Construction Battalion Center

Gulfport Co: Harrison MS 39501-5001

Landholding Agency: Navy

Property Number: 77199830049

Status: Unutilized

Reasons: Secured Area, Extensive deterioration

Bldg. 187

Naval Construction Battalion Center

Gulfport Co: Harrison MS 39501-5001

Landholding Agency: Navy

Property Number: 77199830050

Status: Unutilized

Reasons: Secured Area, Extensive deterioration

Bldg. 7

Construction Battalion Center

Gulfport Co: Harrison MS 39501-

Landholding Agency: Navy

Property Number: 77199930010

Status: Unutilized

Reasons: Secured Area, Extensive deterioration

Bldg. 75

Construction Battalion Center

Gulfport Co: Harrison MS 39501-

Landholding Agency: Navy

Property Number: 77199930011

Status: Unutilized

Reasons: Secured Area, Extensive deterioration

Bldg. 179

Construction Battalion Center

Gulfport Co: Harrison MS 39501-

Landholding Agency: Navy

Property Number: 77199930012

Status: Unutilized

Reasons: Secured Area, Extensive deterioration

Structure 262

Construction Battalion Center

Gulfport Co: Harrison MS 39501-

Landholding Agency: Navy

Property Number: 77199930013

Status: Unutilized

Reasons: Secured Area, Extensive deterioration

Bldg. 279

Construction Battalion Center

Gulfport Co: Harrison MS 39501-

Landholding Agency: Navy

Property Number: 77199930014

Status: Unutilized

Reasons: Secured Area, Extensive deterioration

Bldg. 326

Construction Battalion Center

Gulfport Co: Harrison MS 39501-

Landholding Agency: Navy

Property Number: 77199930015

Status: Unutilized

Reasons: Secured Area, Extensive deterioration

Bldg. 412

Construction Battalion Center

Gulfport Co: Harrison MS 39501-

Landholding Agency: Navy

Property Number: 77199930016

Status: Unutilized

Reasons: Secured Area, Extensive deterioration

New Hampshire

Bldg. 89

Portsmouth Naval Shipyard

Portsmouth NH 03804-5000

Landholding Agency: Navy

Property Number: 77199830086

Status: Unutilized

Reason: Secured Area

Bldg. 99

Portsmouth Naval Shipyard

Portsmouth NH 03804-5000

Landholding Agency: Navy

Property Number: 77199830088

Status: Unutilized

Reason: Secured Area

Bldg. 115

Portsmouth Naval Shipyard

Portsmouth NH 03804-5000

Landholding Agency: Navy

Property Number: 77199830089

Status: Unutilized

Reason: Secured Area

Bldg. 178

Portsmouth Naval Shipyard

Portsmouth NH 03804-5000

Landholding Agency: Navy

Property Number: 77199830090

Status: Unutilized

Reason: Secured Area

Bldg. 298

Portsmouth Naval Shipyard

Portsmouth NH 03804-5000

Landholding Agency: Navy

Property Number: 77199830091

Status: Unutilized

Reasons: Within 2000 ft. of flammable or explosive material, Secured Area

Bldg. H-21

Portsmouth Naval Shipyard

Portsmouth NH 03804-5000

Landholding Agency: Navy

Property Number: 77199830092

Status: Unutilized

Reasons: Within 2000 ft. of flammable or explosive material, Secured Area

Dry Dock 1

Portsmouth Naval Shipyard

Portsmouth NH 03804-5000

Landholding Agency: Navy

Property Number: 77199840012

Status: Underutilized

Reason: Secured Area

Dry Dock 3

Portsmouth Naval Shipyard

Portsmouth NH 03804-5000

Landholding Agency: Navy

Property Number: 77199840013

Status: Underutilized

Reason: Secured Area

Berth 2

Portsmouth Naval Shipyard

Portsmouth NH 03804-5000

Landholding Agency: Navy

Property Number: 77199840014

Status: Underutilized

Reason: Secured Area

Berth 11

Portsmouth Naval Shipyard

Portsmouth NH 03804-5000

Landholding Agency: Navy

Property Number: 77199840015

Status: Underutilized

Reason: Secured Area

Parcel #1

Portsmouth Naval Shipyard

Portsmouth Co: NH 03804-5000

Landholding Agency: Navy

Property Number: 77199910002

Status: Underutilized

Reasons: Within 2000 ft. of flammable or explosive material, Secured Area

Parcel #2

Portsmouth Naval Shipyard

Portsmouth Co: NH 03804-5000

Landholding Agency: Navy

Property Number: 77199910003

Status: Underutilized

Reasons: Within 2000 ft. of flammable or explosive material, Secured Area

Parcel #3

Portsmouth Naval Shipyard

Portsmouth Co: NH 03804-5000

Landholding Agency: Navy

Property Number: 77199910004

Status: Underutilized

Reasons: Within 2000 ft. of flammable or explosive material, Extensive deterioration

Bldg. 55

Portsmouth Naval Shipyard

Portsmouth Co: NH 03804-5000

Landholding Agency: Navy

Property Number: 77199940020

Status: Unutilized

Reason: Secured Area

Bldg. 150

Portsmouth Naval Shipyard

Portsmouth Co: NH 03804-5000

Landholding Agency: Navy

Property Number: 77199940021

Status: Unutilized

Reason: Secured Area

New Jersey

Bldg. 188

Naval Air Engineering Station

Lakehurst Co: Ocean NJ 08733-5000

Landholding Agency: Navy

Property Number: 77199830065

Status: Unutilized

Reason: Extensive deterioration

Bldg. 473

Naval Air Engineering Station

Lakehurst Co: Ocean NJ 08733-5000

Landholding Agency: Navy

Property Number: 77199920024

Status: Unutilized

Reason: Extensive deterioration

Bldg. 474

Naval Air Engineering Station

Lakehurst Co: Ocean NJ 08733-5000

Landholding Agency: Navy

Property Number: 77199920025

Status: Unutilized

Reason: Extensive deterioration

Bldgs. 220, 234, 236

Naval Air Engineering Station

Lakehurst Co: Ocean NJ 08733-5000

Landholding Agency: Navy

Property Number: 77199930017

Status: Unutilized

Reason: Extensive deterioration

28 Sheds

Naval Weapons Station

Colts Neck Co: NJ 07722-

Landholding Agency: Navy

Property Number: 77199940026

Status: Unutilized

Reason: Extensive deterioration

North Carolina

Bldg. 96

Marine Corps Air Station, Cherry Point

Havelock Co: Craven NC 28533-

Landholding Agency: Navy

Property Number: 77199820111

Status: Unutilized

Reasons: Secured Area, Extensive deterioration

Bldg. 97

Marine Corps Air Station, Cherry Point

Havelock Co: Craven NC 28533-

Landholding Agency: Navy

Property Number: 77199820112

Status: Unutilized

Reasons: Secured Area, Extensive deterioration

Bldg. 169

Marine Corps Air Station, Cherry Point

Havelock Co: Craven NC 28533-

Landholding Agency: Navy

Property Number: 77199820113

Status: Unutilized

Reasons: Secured Area, Extensive deterioration

Bldg. 196

Marine Corps Air Station, Cherry Point

Havelock Co: Craven NC 28533-

Landholding Agency: Navy

Property Number: 77199820114

Status: Unutilized

Reasons: Secured Area, Extensive deterioration

Bldg. 477

Marine Corps Air Station, Cherry Point

Havelock Co: Craven NC 28533-

Landholding Agency: Navy

Property Number: 77199820115

Status: Unutilized

Reasons: Within 2000 ft. of flammable or explosive material, Secured Area, Extensive deterioration

Bldg. 3422

Marine Corps Air Station, Cherry Point

Havelock Co: Craven NC 28533-

Landholding Agency: Navy

Property Number: 77199820116

Status: Unutilized

Reasons: Secured Area, Extensive deterioration

Bldg. TC-849

Camp Lejeune

Camp Lejeune Co: Onslow NC 28542-0004

Landholding Agency: Navy

Property Number: 77199920062

Status: Unutilized

Reasons: Secured Area, Extensive deterioration

Bldg. TC-852

Camp Lejeune

Camp Lejeune Co: Onslow NC 28542-0004

Landholding Agency: Navy

Property Number: 77199920063

Status: Unutilized

Reasons: Secured Area, Extensive deterioration

Bldg. 2159

Marine Corps Air Station, Cherry Point

Havelock Co: Craven NC 28532-

Landholding Agency: Navy

Property Number: 77199920146

Status: Unutilized

Reasons: Secured Area, Extensive deterioration

Structure 3758

Marine Corps Air Station, Cherry Point

Havelock Co: Craven NC 28532-

Landholding Agency: Navy

Property Number: 77199920147

Status: Excess

Reasons: Secured Area, Extensive deterioration

Bldg. 8027

Marine Corps Air Station, Cherry Point

Bogue Co: NC 28584-

Landholding Agency: Navy

Property Number: 77199930043

Status: Excess

Reasons: Secured Area, Extensive deterioration

Bldg. 8028

Marine Corps Air Station, Cherry Point

Bogue Co: NC 28584-

Landholding Agency: Navy

Property Number: 77199930044

Status: Excess

Reasons: Secured Area, Extensive deterioration

Bldg. 1649

Marine Corps Air Station, Cherry Point

Havelock Co: Craven NC 28533-

Landholding Agency: Navy

Property Number: 77199940022

Status: Excess

Reasons: Secured Area, Extensive deterioration

Pennsylvania

Bldg. 524

Naval Systems Engineering Station

Philadelphia PA 19112-

Landholding Agency: Navy

Property Number: 77199830023

Status: Unutilized

Reason: Extensive deterioration

Bldg. 152

Naval Air Station Willow Grove

Willow Grove Co: Montgomery PA 19113-

Landholding Agency: Navy

Property Number: 77199930018

Status: Excess

Reason: Extensive deterioration

Bldg. 185

Naval Air Station Willow Grove

Willow Grove Co: Montgomery PA 19113-

Landholding Agency: Navy

Property Number: 77199930019

Status: Excess

Reason: Extensive deterioration

Bldg. 603

Naval Support Station

Mechanicsburg Co: Cumberland PA 17055-0788

Landholding Agency: Navy

Property Number: 77199940015

Status: Unutilized

Reason: Extensive deterioration

Facility 22

Naval Support Station

Philadelphia Co: PA 19111-5098

Landholding Agency: Navy

Property Number: 77199940060

Status: Excess

Reason: Extensive deterioration

Puerto Rico

Bldg. 433

Naval Station Roosevelt Roads

Ceiba PR 00735-

Landholding Agency: Navy

Property Number: 77199830066

Status: Unutilized

Reason: Extensive deterioration

Bldg. 434

Naval Station Roosevelt Roads

Ceiba PR 00735-

Landholding Agency: Navy

Property Number: 77199830067

Status: Unutilized

Reason: Extensive deterioration

Bldg. 464

Naval Station Roosevelt Roads

Ceiba PR 00735-

Landholding Agency: Navy

Property Number: 77199830068

Status: Unutilized

Reason: Extensive deterioration

Bldg. 762

Naval Station Roosevelt Roads

Ceiba PR 00735-

Landholding Agency: Navy

Property Number: 77199830069

Status: Unutilized

Reason: Extensive deterioration

Bldg. 763

Naval Station Roosevelt Roads

Ceiba PR 00735-

Landholding Agency: Navy

Property Number: 77199830070

Status: Unutilized

Reason: Extensive deterioration

Bldg. 1927

Naval Station Roosevelt Roads

Ceiba PR 00735-

Landholding Agency: Navy

Property Number: 77199830071

Status: Unutilized

Reason: Extensive deterioration

Bldg. 175

Naval Station Roosevelt Roads

Ceiba PR 00735-

Landholding Agency: Navy

Property Number: 77199830072

Status: Unutilized

Reason: Extensive deterioration

Former No. 2091

Naval Station Roosevelt Roads

Ceiba PR 00735-

Landholding Agency: Navy

Property Number: 77199830073

Status: Unutilized

Reason: Extensive deterioration

Bldg. 261/1692

Naval Station Roosevelt Roads

Ceiba PR 00735-

Landholding Agency: Navy

Property Number: 77199830074

Status: Unutilized

Reason: Extensive deterioration

B-38

Naval Station Roosevelt Roads

Ceiba PR 00735-

Landholding Agency: Navy

Property Number: 77199830075

Status: Unutilized

Reason: Extensive deterioration

Bldg. 781

Naval Station Roosevelt Roads

Ceiba Co: PR 00735-

Landholding Agency: Navy

Property Number: 77199910006

Status: Unutilized

Reason: Extensive deterioration

Bldg. 1740

Naval Base Roosevelt Roads

Ceiba Co: PR 00735-

Landholding Agency: Navy

Property Number: 77199910007

Status: Unutilized

Reason: Extensive deterioration

Bldg. 1933

Naval Base Roosevelt Roads

Ceiba Co: PR 00735-

Landholding Agency: Navy

Property Number: 77199910008

Status: Unutilized

Reason: Extensive deterioration

Bldgs. 1934

Naval Base Roosevelt Roads

Ceiba Co: PR 00735-

Landholding Agency: Navy

Property Number: 77199910009

Status: Unutilized

Reason: Extensive deterioration

Bldg. 1976

Naval Base Roosevelt Roads

Ceiba Co: PR 00735-

Landholding Agency: Navy

Property Number: 77199910010

Status: Unutilized

Reason: Extensive deterioration

Bldg. 2001

Naval Base Roosevelt Roads

Ceiba Co: PR 00735-

Landholding Agency: Navy

Property Number: 77199910011

Status: Unutilized

Reason: Extensive deterioration

4 Bldgs.

STOP 7½ Compound, Naval Reservation

San Juan Co: PR 34051-

Location: 440, 441, 442, 443

Landholding Agency: Navy

Property Number: 77199920120

Status: Underutilized

Reason: Secured Area

Bldg. 444

STOP 7½ Compound, Naval Reservation

San Juan Co: PR 34051-

Landholding Agency: Navy

Property Number: 77199920121

Status: Underutilized

Reason: Secured Area

Bldgs. 445-447

STOP 7½ Compound, Naval Reservation

San Juan Co: PR 34051-

Landholding Agency: Navy

Property Number: 77199920122

Status: Underutilized

Reason: Secured Area

6 Bldgs.

STOP 7½ Compound, Naval Reservation

San Juan Co: PR 34051-

Location: 448, 449, 450, 451, 452, 455

Landholding Agency: Navy

Property Number: 77199920123

Status: Underutilized

Reason: Secured Area

Bldg. 458

STOP 7½ Compound, Naval Reservation

San Juan Co: PR 34051-

Landholding Agency: Navy

Property Number: 77199920124

Status: Unutilized

Reason: Extensive deterioration

Bldgs. 461, 2157

STOP 7½ Compound, Naval Reservation

San Juan Co: PR 34051-

Landholding Agency: Navy

Property Number: 77199920125

Status: Underutilized

Reason: Secured Area

Bldgs. 28-29

STOP 7½ Compound, Naval Reservation

San Juan Co: PR 34051-

Landholding Agency: Navy

Property Number: 77199920126

Status: Unutilized

Reason: Extensive deterioration

Bldgs. 30-31

STOP 7½ Compound, Naval Reservation

San Juan Co: PR 34051-

Landholding Agency: Navy

Property Number: 77199920127

Status: Unutilized

Reason: Extensive deterioration

Bldg. 104

STOP 7½ Compound, Naval Reservation

San Juan Co: PR 34051-

Landholding Agency: Navy

Property Number: 77199920128

Status: Unutilized

Reason: Extensive deterioration

Bldg. 459

STOP 7½ Compound, Naval Reservation

San Juan Co: PR 34051-

Landholding Agency: Navy

Property Number: 77199920129

Status: Unutilized

Reason: Extensive deterioration

Structure 460

STOP 7½ Compound, Naval Reservation

San Juan Co: PR 34051-

Landholding Agency: Navy

Property Number: 77199920130

Status: Underutilized

Reason: Secured Area

Rhode Island

Bldg. 52

Gould Island, Naval Station

Newport Co: RI 00000-

Landholding Agency: Navy

Property Number: 77199930020

Status: Excess

Reasons: Not accessible by road, Extensive deterioration

Tennessee

20 Bldgs.

Naval Support Activity

Millington Co: Shelby TN 38054-

Location: 766, 1597-1598, 5238, 435-446, S239, S75, 1211, 1379

Landholding Agency: Navy

Property Number: 77199940027

Status: Excess

Reasons: Secured Area, Extensive deterioration

Texas

Bldgs. 1561, 1562, 1563

Naval Air Station Joint Reserve Base

Ft. Worth Co: Tarrant TX 76127-6200

Landholding Agency: Navy

Property Number: 77199820050

Status: Unutilized

Reasons: Secured Area, Extensive deterioration

Bldg. 1190

Naval Air Station Joint Reserve Base

Ft. Worth Co: Tarrant TX 76127-6200

Landholding Agency: Navy

Property Number: 77199820053

Status: Unutilized

Reasons: Secured Area

Bldg. 1820

Naval Air Station Joint Reserve Base

Ft. Worth Co: Tarrant TX 76127-6200

Landholding Agency: Navy

Property Number: 77199820054

Status: Unutilized

Reasons: Secured Area, Extensive deterioration

Facilities 105 and 105C

Naval Station

Corpus Christi Co: Nueces TX 78419-5021

Landholding Agency: Navy

Property Number: 77199910012

Status: Unutilized

Reason: Extensive deterioration

Bldg. 101

Naval Air Station

Corpus Christi Co: Nueces TX 78419-5021

Landholding Agency: Navy

Property Number: 77199940052

Status: Excess

Reason: Extensive deterioration

Bldg. 198

Naval Air Station

Corpus Christi Co: Nueces TX 78419-5021

Landholding Agency: Navy

Property Number: 77199940053

Status: Excess

Reason: Extensive deterioration

Bldg. 1104

Naval Air Station

Corpus Christi Co: Nueces TX 78419-5021

Landholding Agency: Navy

Property Number: 77199940054

Status: Excess

Reason: Extensive deterioration

Bldg. 1198

Naval Air Station

Corpus Christi Co: Nueces TX 78419-5021

Landholding Agency: Navy

Property Number: 77199940055

Status: Excess

Reason: Extensive deterioration

Bldg. 1823

Naval Air Station

Corpus Christi Co: Nueces TX 78419-5021

Landholding Agency: Navy

Property Number: 77199940056

Status: Excess

Reason: Extensive deterioration

Bldg. H-9

Naval Air Station

Corpus Christi Co: Nueces TX 78419-5021

Landholding Agency: Navy

Property Number: 77199940057

Status: Excess

Reason: Extensive deterioration

Bldg. H-45

Naval Air Station

Corpus Christi Co: Nueces TX 78419-5021

Landholding Agency: Navy

Property Number: 77199940058

Status: Excess

Reason: Extensive deterioration

Bldg. H-54

Naval Air Station

Corpus Christi Co: Nueces TX 78419-5021

Landholding Agency: Navy

Property Number: 77199940059

Status: Excess

Reason: Extensive deterioration

Virginia

Fleet Training Center

Fire Fighting Training Facility

SDA-323, SDA-324, SDA-325, SDA-326

Norfolk, VA 23511-

Landholding Agency: Navy

Property Number: 77199740010

Status: Unutilized

Reason: Extensive deterioration

Bldg. 02

Naval Weapons Station

Yorktown Co: York VA 23691-

Landholding Agency: Navy

Property Number: 77199810073

Status: Excess

Reason: Extensive deterioration

Bldg. 2208

Naval Medical Clinic

Quantico, VA

Landholding Agency: Navy

Property Number: 77199820001

Status: Unutilized

Reason: Extensive deterioration

Bldgs. 358, 359

Cheatham Annex

Williamsburg, VA 23185-

Landholding Agency: Navy

Property Number: 77199820023

Status: Excess

Reason: Extensive deterioration

Bldgs. CAD-43

Cheatham Annex

Williamsburg, VA 23185-

Landholding Agency: Navy

Property Number: 77199820024

Status: Excess

Reason: Extensive deterioration

Bldg. CAD-102

Cheatham Annex

Williamsburg, VA 23185-

Landholding Agency: Navy

Property Number: 77199820025

Status: Excess

Reason: Extensive deterioration

Bldg. CAD-102A

Cheatham Annex

Williamsburg VA 23185-

Landholding Agency: Navy

Property Number: 77199820026

Status: Excess

Reason: Extensive deterioration

Bldg. CAD-127

Cheatham Annex

Williamsburg VA 23185-

Landholding Agency: Navy

Property Number: 77199820027

Status: Excess

Reason: Extensive deterioration

Bldg. CAD-40

Cheatham Annex

Williamsburg VA 23185-

Landholding Agency: Navy

Property Number: 77199830084

Status: Unutilized

Reasons: Secured Area, Extensive deterioration

Bldg. 1256

Naval Amphibious Base Little Creek

Norfolk Co: VA 23521-2616

Landholding Agency: Navy

Property Number: 77199910013

Status: Excess

Reason: Extensive deterioration

Bldg. W219

Naval Base Norfolk

Norfolk Co: VA 23511-

Landholding Agency: Navy

Property Number: 77199910014

Status: Excess

Reason: Secured Area

Bldg. SP76AQ

Naval Air Station

Norfolk Co: VA 23511-2797

Landholding Agency: Navy

Property Number: 77199910051

Status: Excess

Reason: Extensive deterioration

Bldg. CA502

Naval Station Norfolk

Norfolk Co: VA 23511-

Landholding Agency: Navy

Property Number: 77199910052

Status: Excess

Reason: Secured Area

Bldg. 3074

Marine Corps Base

Quantico Co: VA 22134-

Landholding Agency: Navy

Property Number: 77199920026

Status: Unutilized

Reason: Extensive deterioration

Bldg. SC-319

Armed Forces Staff College

Norfolk Naval Base

Norfolk Co: VA 23511-1702

Landholding Agency: Navy

Property Number: 77199920067

Status: Excess

Reason: Extensive deterioration

Bldg. 449

Norfolk Naval Shipyard

Portsmouth Co: VA 23709-

Landholding Agency: Navy

Property Number: 77199920068

Status: Excess

Reason: Extensive deterioration

Bldg. 450

Norfolk Naval Shipyard

Portsmouth Co: VA 23709-

Landholding Agency: Navy

Property Number: 77199920069

Status: Excess

Reason: Extensive deterioration

Bldg. 451

Norfolk Naval Shipyard

Portsmouth Co: VA 23709-

Landholding Agency: Navy

Property Number: 77199920070

Status: Excess

Reason: Extensive deterioration

Bldg. 453

Norfolk Naval Shipyard

Portsmouth Co: VA 23709-

Landholding Agency: Navy

Property Number: 77199920071

Status: Excess

Reason: Extensive deterioration

Bldg. 454

Norfolk Naval Shipyard

Portsmouth Co: VA 23709-

Landholding Agency: Navy

Property Number: 77199920072

Status: Excess

Reason: Extensive deterioration

Bldg. 708

Norfolk Naval Shipyard

Portsmouth Co: VA 23709-

Landholding Agency: Navy

Property Number: 77199920073

Status: Excess

Reason: Extensive deterioration

Bldg. 709

Norfolk Naval Shipyard

Portsmouth Co: VA 23709-

Landholding Agency: Navy

Property Number: 77199920074

Status: Excess

Reason: Extensive deterioration

Bldg. 710

Norfolk Naval Shipyard

Portsmouth Co: VA 23709-

Landholding Agency: Navy

Property Number: 77199920075

Status: Excess

Reason: Extensive deterioration

Bldg. 711

Norfolk Naval Shipyard

Portsmouth Co: VA 23709-

Landholding Agency: Navy

Property Number: 77199920076

Status: Excess

Reason: Extensive deterioration

Bldg. 712

Norfolk Naval Shipyard

Portsmouth Co: VA 23709-

Landholding Agency: Navy

Property Number: 77199920077

Status: Excess

Reason: Extensive deterioration

Bldg. 713

Norfolk Naval Shipyard

Portsmouth Co: VA 23709-

Landholding Agency: Navy

Property Number: 77199920078

Status: Excess

Reason: Extensive deterioration

Bldg. 714

Norfolk Naval Shipyard

Portsmouth Co: VA 23709-

Landholding Agency: Navy

Property Number: 77199920079

Status: Excess

Reason: Extensive deterioration

Bldg. 715

Norfolk Naval Shipyard

Portsmouth Co: VA 23709-

Landholding Agency: Navy

Property Number: 77199920080

Status: Excess

Reason: Extensive deterioration

Bldg. 716

Norfolk Naval Shipyard

Portsmouth Co: VA 23709-

Landholding Agency: Navy

Property Number: 77199920081

Status: Excess

Reason: Extensive deterioration

Bldg. 717

Norfolk Naval Shipyard

Portsmouth Co: VA 23709-

Landholding Agency: Navy

Property Number: 77199920082

Status: Excess

Reason: Extensive deterioration

Bldg. 718

Norfolk Naval Shipyard

Portsmouth Co: VA 23709-

Landholding Agency: Navy

Property Number: 77199920083

Status: Excess

Reason: Extensive deterioration

Bldg. 1454

Norfolk Naval Shipyard

Portsmouth Co: VA 23709-

Landholding Agency: Navy

Property Number: 77199920084

Status: Excess

Reason: Extensive deterioration

Bldg. 3170

Marine Corps Base

Quantico Co: VA 22134-

Landholding Agency: Navy

Property Number: 77199940064

Status: Unutilized

Reason: Extensive deterioration

Bldgs. 1252, 1277

Marine Corps Base

Quantico Co: VA 22134-

Landholding Agency: Navy

Property Number: 77199940065

Status: Unutilized

Reason: Extensive deterioration

Washington

Bldg. 6661

Naval Submarine Base, Bangor

Silverdale Co: Kitsap WA 98315-6499

Landholding Agency: Navy

Property Number: 77199730039

Status: Unutilzied

Reason: Secured Area

Bldg. 604

Manchester Fuel Department

Port Orchard WA 98366-

Landholding Agency: Navy

Property Number: 77199810170

Status: Excess

Reason: Within 2000 ft. of flammable or explosive material, Secured Area

Bldg. 288

Fleet Industrial Supply Center

Bremerton WA 98314-5100

Landholding Agency: Navy

Property Number: 77199810171

Status: Excess

Reason: Within 2000 ft. of flammable or explosive material, Secured Area

Bldg. 47

Naval Radio Station T Jim Creek

Arlington Co: Snohomish WA 98223-

Landholding Agency: Navy

Property Number: 77199820056

Status: Unutilized

Reason: Secured Area, Extensive deterioration

Bldg. 48

Naval Radio Station T Jim Creek

Arlington Co: Snohomish WA 98223-

Landholding Agency: Navy

Property Number: 77199820057

Status: Unutilized

Reason: Secured Area, Extensive deterioration

Coal Handling Facilties

Puget Sound Naval Shipyard

#908, 919, 926-929

Bremerton WA 98314-5000

Landholding Agency: Navy

Property Number: 77199820142

Status: Excess

Reason: Within 2000 ft. of flammable or explosive material

Bldg. 193

Puget Sound Naval Shipyard

Bremerton WA 98310-

Landholding Agency: Navy

Property Number: 77199820143

Status: Unutilized

Reason: Contamination

Bldg. 202

Naval Air Station Whidbey Island

Oak Harbor WA 98278-

Landholding Agency: Navy

Property Number: 77199830019

Status: Excess

Reason: Within 2000 ft. of flammable or explosive material

Bldg. 2649

Naval Air Station Whidbey Island

Oak Harbor WA 98278-

Landholding Agency: Navy

Property Number: 77199830020

Status: Excess

Reasons: Within 2000 ft. of flammable or explosive material, Extensive deterioration

Bldg. 35, 36

Naval Radio Station T Jim Creek

Arlington Co: Snohomish WA 98223-

Landholding Agency: Navy

Property Number: 77199830076

Status: Unutilized

Reason: Extensive deterioration

Bldg. 918

Puget Sound Naval Shipyard

Bremerton WA 98314-5000

Landholding Agency: Navy

Property Number: 77199840020

Status: Unutilized

Reasons: Within 2000 ft. of flammable or explosive material, Secured Area

Bldg. 894

Naval Undersea Warfare Center

Keyport Co: Kitsap WA 98345-7610

Landholding Agency: Navy

Property Number: 77199920085

Status: Underutilized

Reasons: Within 2000 ft. of flammable or explosive material, Secured Area

Bldg. 73

Naval Undersea Warfare Center

Keyport Co: Kitsap WA 98345—

Landholding Agency: Navy

Property Number: 77199920152

Status: Underutilized

Reasons: Within 2000 ft. of flammable or explosive material, Secured Area

Bldg. 210A

Naval Station Bremerton

Bremerton Co: WA 98314—

Landholding Agency: Navy

Property Number: 77199930021

Status: Excess

Reasons: Within 2000 ft. of flammable or explosive material, Secured Area

Bldg. 511

Naval Station Bremerton

Bremerton Co: WA 98314—

Landholding Agency: Navy

Property Number: 77199930022

Status: Excess

Reasons: Within 2000 ft. of flammable or explosive material, Secured Area, Extensive deterioration

Bldg. 527

Naval Station Bremerton

Bremerton Co: WA 98314-

Landholding Agency: Navy

Property Number: 77199930023

Status: Excess

Reasons: Within 2000 ft. of flammable or explosive material, Secured Area

Bldg. 97

Naval Air Station

Whidbey Island

Oak Harbor Co: WA 98278-

Landholding Agency: Navy

Property Number: 77199930040

Status: Unutilized

Reason: Extensive deterioration

Bldg. 331

Naval Undersea Warfare Center

Keyport Co: Kitsap WA 98345-

Landholding Agency: Navy

Property Number: 77199930041

Status: Unutilized

Reasons: Secured Area, Extensive deterioration

Bldg. 786

Naval Undersea Warfare Center

Keyport Co: Kitsap WA 98345-

Landholding Agency: Navy

Property Number: 77199930042

Status: Unutilized

Reasons: Secured Area, Extensive deterioration

Bldg. 15

Naval Air Station, Whidbey Island

Oak Harbor Co: WA 98278-3500

Landholding Agency: Navy

Property Number: 77199930071

Status: Unutilized

Reason: Extensive deterioration

Bldg. 119

Naval Air Station, Whidbey Island

Oak Harbor Co: WA 98278-3500

Landholding Agency: Navy

Property Number: 77199930072

Status: Unutilized

Reason: Extensive deterioration

Bldg. 853

Naval Air Station, Whidbey Island

Oak Harbor Co: WA 98278-3500

Landholding Agency: Navy

Property Number: 77199930073

Status: Unutilized

Reason: Extensive deterioration

Bldg. 854

Naval Air Station, Whidbey Island

Oak Harbor Co: WA 98278-3500

Landholding Agency: Navy

Property Number: 77199930074

Status: Unutilized

Reason: Extensive deterioration

Bldg. 166

Puget Sound Naval Shipyard

Bremerton Co: WA 98314-5000

Landholding Agency: Navy

Property Number: 77199930101

Status: Excess

Reason: Secured Area

Bldg. 287

Puget Sound Naval Shipyard

Bremerton Co: WA 98314-5000

Landholding Agency: Navy

Property Number: 77199930102

Status: Excess

Reason: Secured Area

Bldg. 418

Puget Sound Naval Shipyard

Bremerton Co: WA 98314-5000

Landholding Agency: Navy

Property Number: 77199930103

Status: Excess

Reason: Secured Area

Bldg. 858

Puget Sound Naval Shipyard

Bremerton Co: WA 98314-5000

Landholding Agency: Navy

Property Number: 77199930104

Status: Excess

Reason: Secured Area

Land (by State)

California

Space Surv. Field Station

Portion/Off Heritage Road

San Diego CA 90012-1408

Landholding Agency: Navy

Property Number: 77199820049

Status: Excess

Reason: Within 2000 ft. of flammable or explosive material

Land

Naval Construction Battalion Center

Port Hueneme Co: Ventura CA 93043-4301

Landholding Agency: Navy

Property Number: 77199940001

Status: Underutilized

Reason: Secured Area

Maryland

6 Acres

Naval Air Station

Patuxent River Co: MD 20670-

Landholding Agency: Navy

Property Number: 77199940023

Status: Unutilized

Reason: Secured Area

North Carolina

0.85 parcel of land

Marine Corps Air Station,

Cherry Point

Havelock Co: Craven NC 28533-

Landholding Agency: Navy

Property Number: 77199740074

Status: Unutilized

Reason: Secured Area

Washington

Land-Port Hadlock Detachment

Naval Ordnance Center

Pacific Division

Port Hadlock Co: Jefferson WA 98339-

Landholding Agency: Navy

Property Number: 77199640019

Status: Underutilized

Reasons: Within 2000 ft. of flammable or explosive material, Secured Area

[FR Doc. 00-6989 Filed 3-23-00; 8:45 am]

BILLING CODE 4210-29-M